DEPARTMENT OF VETERANS AFFAIRS

Privacy Act of 1974; System of Records

AGENCY: Department of Veterans Affairs (VA).

ACTION: Notice of amendment to system of records.

SUMMARY: As required by the Privacy Act of 1974, 5 U.S.C. 552a(e), notice is hereby given that the Department of Veteran Affairs (VA) is amending the system of records currently entitled “Health Administration Center Civilian Health and Medical Program Records-VA” (54VA16) as set forth in the Federal Register 74 FR 34398. VA is amending the system of records by revising the System Name, System Number, System Location, Categories of Individuals Covered by the System, Categories of Records in the System, Authority for Maintenance of the System, Purpose, Routine Uses of Records Maintained in the System, Including Categories of Users and the Purposes of Such Uses; Retrievability, Safeguards, Retention and Disposal, System Manager(s) and Address, Record Access Procedure, and Notification Procedure. VA is republishing the system notice in its entirety.

ADDRESSES: Written comments concerning the proposed new system of records may be submitted through www.regulations.gov; by mail or hand-delivery to Director, Regulations Management (02REG), Department of Veterans Affairs, 810 Vermont Avenue NW., Room 1068, Washington, DC 20420; or by fax to (202) 273-9026. All comments received will be available for public inspection in the Office of Regulation Policy and Management, Room 1063B, between the hours of 8:00 a.m. and 4:30 p.m., Monday through Friday (except holidays). Please call (202) 461-4902 for an appointment. (This is not a toll free number.) In addition, during the comment period, comments may be viewed online through the Federal Docket Management System at www.regulations.gov.

FOR FURTHER INFORMATION CONTACT: Veterans Health Administration (VHA) Privacy Officer, Department of Veterans Affairs, 810 Vermont Avenue NW., Washington, DC 20420; telephone (704) 245-2492.

SUPPLEMENTARY INFORMATION: VA is renaming the system of records from Health Administration Center Civilian Health and Medical Program Records-VA to Veterans and Beneficiaries Purchased Care Community Health Care Claims, Correspondence, Eligibility, Inquiry and Payment Files-VA.

The system number is changed from 54VA16 to 54VA10NB3 to reflect the current organizational alignment.

The System Location, Safeguards, Notification Procedure, and Record Access Procedure have been amended to reflect a name change from the Health Administration Center to the VA Chief Business Office Purchased Care.

Categories of Individuals Covered by the System has been amended to include family members and caregivers of Veterans who are authorized and receive community non-VA medical care health care benefits and/or stipends, and to reflect that records are maintained on all health care providers who provide care under the programs administered by CBOPC. 38 U.S.C. 1720G, 1787, 1812, 1821 and Public Law 111-163 section 101 are being added to section 1 and 4. A new section 5 has been added to include caregivers of Veterans providing personal care services and in receipt of a stipend under 38 U.S.C. 1720G and Public Law 111-163 section 101.

The Category of Records in the System is amended to reflect that information regarding family members and caregivers will be included, including information regarding eligibility or entitlement to other federal medical programs; and those who have applied for benefits in these programs, claims (billing) for medical care and services; information related to claims processing; documents pertaining to stipend calculation and payment; and documents pertaining to appeals.

The Authority for Maintenance of the System is amended to include 1720G, 1787, 1812, 1821, and Public Law 111-163 section 101.

The Purpose is being amended to include processing claims for medical care and services, and processing stipends.

Routine use 1 is being amended to add interactive voice recognition and portal. Routine use 28 is added to allow the disclosure of any relevant information to the Centers for Medicare and Medicaid, the Social Security Administration, Veterans Benefit Administration, or any other federal or state agency.

The Retrievability section is being amended to include caregivers. The Retention and Disposal section is amended to reflect the Record Control Schedule (RCS) 10-1 item XXXVIII Civilian Health and Medical care (CHMC) Records, NARA job number N1-015-3-1Item 1-8b, (Master file) item 3, destroy 6 years after all individuals in the record become ineligible for program benefits.

The System Manager and Address and Record Access Procedure are being amended to change the official maintaining the System from the Director, Health Administration Center to the Deputy Chief Business Officer Purchased Care.

The Privacy Act permits VA to disclose information about individuals without their consent for a routine use when the information will be used for a purpose that is compatible with the purpose for which VA collected the information. In all of the routine use disclosures described above, the recipient of the information will use the information in connection with a matter relating to one of VA's programs, or to provide a benefit to VA, or disclosure is required by law.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority: The Secretary of Veterans Affairs, or designee, approved this document and authorized the undersigned to sign and submit the document to the Office of the Federal Register for publication electronically as an official document of the Department of Veterans Affairs. Jose D. Riojas, Chief of Staff, approved this document on February 10, 2015, for publication.

Dated: February 25, 2015.
Jeffrey M. Martin,
Program Manager, Regulation Policy and Management, Office of the General Counsel, Department of Veterans Affairs.

54VA10NB3

SYSTEM NAME:

“Veterans and Beneficiaries Purchased Care Community Health Care Claims, Correspondence, Eligibility, Inquiry and Payment Files—VA”

SYSTEM LOCATION:

Records are maintained at the Chief Business Office Purchased Care (CBOPC), 3773 Cherry Creek North Drive, Denver, Colorado 80209.

CATEGORIES OF INDIVIDUALS COVERED BY THE SYSTEM:

Categories of individuals covered by the system include the following:

1. Family members of Veterans who seek health care under 38 U.S.C. 1720G, 1781, 1787, 1802, 1803, 1812, 1813, 1821, Public Law 103-446, section 107 and Public Law 111-163 section 101.

2. Veterans seeking health care services in a foreign country under 38 U.S.C. 1724.

3. Veterans receiving community fee-for-service benefits at VA expense under Title 38 U.S.C. 1703, 1725 and 1728.

4. Health care providers treating individuals who receive care under 38 U.S.C. 1703, 1720G, 1724, 1725, 1728, 1781, 1787, 1803, 1812, 1813, 1821, Public Law 103-446 section 107 and Public Law 111-163 section 101.

5. Caregivers of Veterans providing personal care services and in receipt of a stipend under 38 U.S.C. 1720G and Public Law 111-163 section 101.

CATEGORIES OF RECORDS IN THE SYSTEM:

Records maintained in the system include program applications, eligibility information concerning the Veteran, family members, caregivers: Other health insurance information to include information regarding eligibility or entitlement to other federal medical programs: Correspondence concerning individuals who have applied for benefits in these programs; claims (billing) for medical care and services; documents pertaining to claims for medical services; information related to claims processing; documents pertaining to stipend calculation and payment; documents pertaining to appeals; and third party liability information and recovery actions taken by VA and/or TRICARE. The record may include the name, address and other identifying information concerning health care providers, services provided, amounts claimed and paid for health care services, amounts calculated and paid for stipends, medical records, and treatment and payment dates.

Additional information may include Veterans, who have applied for benefits in these programs; claims (billing) for medical care and services; documents pertaining to claims for medical services; information related to claims processing; documents pertaining to stipend calculation and payment; documents pertaining to appeals; and third party liability information and recovery actions. family member, and caregiver identifying information (e.g., name, address, social security number, VA claim file number, date of birth), and military service information concerning the Veteran and spouse or other family member (when applicable—e.g., dates, branch and character of service, medical information).

AUTHORITY FOR MAINTENANCE OF THE SYSTEM:

Title 38, United States Code, sections 501(a), 501(b), 1703, 1720G, 1724, 1725, 1728, 1781, 1787, 1802, 1803, 1812, 1813, 1821, Public Law 103-446 section 107 and Public Law 111-163 section 101.

PURPOSE(S):

Records may be used for purposes of establishing and monitoring eligibility to receive VA benefits, processing claims for medical care and services, and processing stipends.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia or infection with the human immunodeficiency virus, that information cannot be disclosed under a routine use unless there is also specific statutory authority in 38 U.S.C. 7332 and regulatory authority in 45 CFR parts 160 and 164 permitting disclosure.

1. Eligibility and claim information from this system of records may be disclosed verbally or in writing. For example, disclosure may be made via correspondence, call service center, interactive voice recognition, portal or interactive Web page, in response to an inquiry made by the claimant, claimant's guardian, claimant's next of kin, health care provider, trading partner, other federal agency or contractor. Purposes of these disclosures are to assist the provider or claimant in obtaining reimbursement for claimed medical services, to facilitate billing processes, to verify beneficiary eligibility and to provide payment information regarding claimed services. Eligibility or entitlement information disclosed may include the name, authorization number (social security number), effective dates of eligibility, reasons for any period of ineligibility, and other health insurance information of the named individual. Claim or stipend information disclosed may include payment information such as payment identification number, date of payment, date of service, amount billed, amount paid, name of payee, or reasons for non-payment.

2. Statistical and other data to Federal, State, and local government agencies and national health organizations to assist in the development of programs that will be beneficial to health care recipients, to protect their rights under the law, and to ensure that they are receiving all health benefits to which they are entitled.

3. VA may disclose on its own initiative any information in this system, except the names and home addresses of Veterans and their family members or caregivers which is relevant to a suspected or reasonably imminent violation of law, whether civil, criminal or regulatory in nature, and whether arising by general or program statute or by regulation, rule or order issued pursuant thereto, to a Federal, State, local, Tribal, or foreign agency charged with the responsibility of investigating or prosecuting such violation, or charged with enforcing or implementing the statute, regulation, rule or order. On its own initiative, VA may also disclose the names and addresses of Veterans, their family members or caregivers to a Federal agency charged with the responsibility of investigating or prosecuting civil, criminal or regulatory violations of law, or charged with enforcing or implementing the statute, regulation, rule or order issued pursuant thereto.

4. A record from this system of records may be disclosed to a Federal agency upon its request for use in the issuance of a security clearance, the investigation of an employee, the letting of a contract, or the issuance of a license, grant or other benefit by the requesting agency, to the extent that the information is relevant and necessary to the requesting Agency's decision on the matter.

5. Disclosure may be made to a congressional office from the record of an individual in response to an inquiry from the congressional office made at the request of that individual.

6. Disclosure may be made to National Archives and Records Administration and to General Services Administration in records management inspections conducted under authority of 44 U.S.C.

7. Any relevant information in this system of records may be disclosed to attorneys, insurance companies, employers, and to courts, boards, or commissions; such disclosures may be made only to the extent necessary to aid the VA in preparation, presentation, and prosecution of claims authorized under Federal, State, or local laws, and regulations promulgated thereunder.

8. Any information in this system of records may be disclosed to the United States Department of Justice or United States Attorneys in order to prosecute or defend litigation involving or pertaining to the United States, or in which the United States has an interest.

9. Any information in this system of records may be disclosed to a Federal agency or party to an administrative proceeding being conducted by a Federal agency, in order for VA to respond to and comply with the issuance of an order by that Federal agency requiring production of the information.

10. Any information in this system of records may be disclosed to a State or municipal grand jury, a State or municipal court or a party in litigation, or to a State or municipal administrative agency functioning in a quasi-judicial capacity or a party to a proceeding being conducted by such agency, provided that any disclosure of claimant information made under this routine use must comply with the provisions of 38 CFR 1.511.

11. Any information concerning the claimant's indebtedness to the United States by virtue of a person's participation in a benefits program administered by VA, including personal information obtained from other Federal agencies through computer matching programs, may be disclosed to any third party, except consumer reporting agencies, in connection with any proceeding for the collection of any amount owed to the United States. Purposes of these disclosures may be to assist VA in collection of costs of services provided individuals not entitled to such services and to initiate legal actions for prosecuting individuals who willfully or fraudulently obtain Title 38 benefits without entitlement. This disclosure is consistent with 38 U.S.C. 5701(b)(6).

12. Any relevant information from this system of records may be disclosed to TRICARE, the Department of Defense (DoD) and the Defense Eligibility Enrollment Reporting System (DEERS) to the extent necessary to determine eligibility for the Civilian Health and Medical Program of the Department of Veterans Affairs (CHAMPVA) or TRICARE benefits, to develop and process CHAMPVA or TRICARE claims, and to develop cost-recovery actions for claims involving individuals not eligible for the services or claims involving potential third party liability.

13. The name and address of a Veteran, family member or caregiver, and other information as is reasonably necessary to identify such individual, may be disclosed to a consumer reporting agency for the purpose of locating the individual or obtaining a consumer report to determine the ability of the individual to repay an indebtedness to the United States by virtue of the individual's participation in a benefits program administered by VA, provided that the requirements of 38 U.S.C. 5701(g)(2) have been met.

14. The name and address of a Veteran, family member or caregiver and other information as is reasonably necessary to identify such individual, including personal information obtained from other Federal agencies through computer matching programs, and any information concerning the individual's indebtedness to the United States by virtue of the individual's participation in a benefits program administered by VA, may be disclosed to a consumer reporting agency for purposes of assisting in the collection of such indebtedness, provided that the requirements of 38 U.S.C. 5701(g)(4) have been met.

15. In response to an inquiry about a named individual from a member of the general public, disclosure of information may be made from this system of records to report the amount of VA monetary benefits being received by the individual. This disclosure is consistent with 38 U.S.C. 5701(c)(1).

16. The name and address of a Veteran, family member or caregiver may be disclosed to another Federal agency or to a contractor of that agency, at the written request of the head of that agency or designee of the head of that agency, for the purpose of conducting government research necessary to accomplish a statutory purpose of that agency.

17. Any information in this system of records relevant to a claim of a Veteran, family member or caregiver such as the name, address, the basis and nature of a claim, amount of benefit payment information, medical information and military service and active duty separation information may be disclosed at the request of the claimant to accredited service organizations, VA approved claim agents and attorneys acting under a declaration of representation, so that these individuals can aid claimants in the preparation, presentation and prosecution of claims under the laws administered by VA. The name and address of a claimant will not, however, be disclosed to these individuals under this routine use if the claimant has not requested the assistance of the accredited service organization, claims agent or an attorney.

18. Any information in this system, including medical information, the basis and nature of claim, the amount of benefits and personal information may be disclosed to a VA Federal fiduciary or a guardian ad litem in relation to his or her representation of a claimant only to the extent necessary to fulfill the duties of the VA Federal fiduciary or the guardian ad litem.

19. The individual's name, address, social security number and the amount (excluding interest) of any indebtedness which is waived under 38 U.S.C. 3102, compromised under 4 CFR part 103, otherwise forgiven, or for which the applicable statute of limitations for enforcing collection has expired, may be disclosed to the Treasury Department, Internal Revenue Service, as a report of income under 26 U.S.C. 61(a)(12).

20. The name of a Veteran, family member or caregiver, or other information as is reasonably necessary to identify such individual, and any other information concerning the individual's indebtedness by virtue of a person's participation in a benefit program administered by VA, may be disclosed to the Treasury Department, Internal Revenue Service, for the collection of Title 38, U.S.C. benefit overpayments, overdue indebtedness, and/or costs of services provided to an individual not entitled to such services, by the withholding of all or a portion of the person's Federal income tax refund.

21. The name, date of birth and social security number of a Veteran, family member or caregiver, and other identifying information as is reasonably necessary may be disclosed to Social Security Administration and Centers for Medicare & Medicaid Services, Department of Health and Human Services, for the purpose of validating social security numbers and Medicare information.

22. The name and address of any health care provider in this system of records who has received payment for claimed services on behalf of a Veteran, family member or caregiver may be disclosed in response to an inquiry from a member of the general public who requests assistance in locating medical providers who accept VA payment for health care services.

23. Relevant information from this system of records may be disclosed to individuals, organizations, private or public agencies, etc., with whom VA has a contract or agreement to perform such services as VA may deem practicable for the purposes of laws administered by VA in order for the contractor or subcontractor to perform the services of the contract or agreement.

24. Relevant information from this system of records may be disclosed to an accrediting Quality Review and Peer Review Organization in connection with the review of claims or other review activities associated with CBOPC accreditation to professionally accepted claims processing standards.

25. Identifying information, including social security number, of Veterans, spouse(s) of veterans, and dependents of Veterans, family members and caregivers, may be disclosed to other Federal agencies for purposes of conducting computer matches, to obtain information to determine or verify eligibility of Veterans who are receiving VA medical care under relevant sections of Title 38, U.S.C.

26. Disclosure to other Federal agencies may be made to assist such agencies in preventing and detecting possible fraud or abuse by individuals in their operations and programs.

27. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

28. Any relevant information from this system of records may be disclosed to the Centers for Medicare and Medicaid, the Social Security Administration, Veterans Benefit Administration, or any other federal or state agency.

POLICIES AND PRACTICES FOR STORING, RETRIEVING, ACCESSING, RETAINING, AND DISPOSING OF RECORDS IN THE SYSTEM:

STORAGE:

Records are stored electronically, in paper folders, magnetic discs, and magnetic tape. Paper documents may be scanned/digitized and stored for viewing electronically.

RETRIEVABILITY:

Paper records are retrieved by name or VA claims file number or social security number of the Veteran, family member or caregiver. Computer records are retrieved by name or social security number of the Veteran family member, caregiver, or VA claims file number of the Veteran.

SAFEGUARDS:

Working spaces and record storage areas at CBOPC are secured during all business and non-business hours. All entrance doors require an electronic pass card for entry. The CBOPC Logistics Department issues electronic pass cards. CBOPC staff control visitor entry by door release and escort. The building is equipped with an intrusion alarm system monitored by CBOPC security staff during business hours and by a security service vendor during non-business hours. Electronic/Digital records are stored in an electronic controlled storage filing area. Paper records in work areas are stored in locked file cabinets or locked rooms. Access to record storage areas is restricted to VA employees on a “need-to-know” basis. Access to the computer room is limited by appropriate locking devices and restricted to authorized VA employees and vendor personnel. Automated Data Processing (ADP) peripheral devices are generally placed in secure areas or are otherwise protected. Authorized VA employees may access information in the computer system by a series of individually unique passwords/codes.

RETENTION AND DISPOSAL:

Record Control Schedule (RCS) 10-1 item XXXVIII Civilian Health and Medical care (CHMC) Records. NARA job number N1-015-3-1Item 1-8b. (Master file) item 3, Destroy 6 years after all individuals in the record become ineligible for program benefits.

SYSTEM MANAGER(S) AND ADDRESS:

Official responsible for policies and procedures: Chief Business Officer (10NB), Department of Veterans Affairs, Veterans Health Administration, VA Central Office, 810 Vermont Avenue NW., Washington, DC 20420. Official Maintaining the System: Deputy Chief Business Officer Purchased Care, Department of Veterans Affairs, P.O. Box 469060, Denver, CO 80246-9060.

NOTIFICATION PROCEDURE:

Any individual who wishes to determine whether a record is being maintained in this system under his or her name or other personal identifier, or wants to determine the contents of such record, should submit a written request to Chief Business Office Purchased Care, P.O. Box 469060, Denver, Colorado 80246-9060, or apply in person to the VHA Chief Business Office Purchased Care, 3773 Cherry Creek North Drive, Denver, Colorado 80209. All inquiries (Veteran and beneficiary) should include the Veteran's full name and social security and VA claims file numbers, and the spouse's family member or caregiver's name, social security number and return address.

RECORD ACCESS PROCEDURE:

An individual who seeks access to records maintained under his or her name in this system may write or visit the Deputy Chief Business Officer, VHA CBO Purchased Care.

CONTESTING RECORD PROCEDURES:

(See Record Access Procedures above.)

RECORD SOURCE CATEGORIES:

The Veteran sponsor, family member, caregiver, military service departments, private medical facilities and health care professionals, electronic trading partners, contractors, DoD, TRICARE, DEERS, other Federal agencies, VA Regional Offices, Veterans Benefits Administration (VBA) automated record systems, and VA Medical Centers.

[FR Doc. 2015-04312 Filed 3-2-15; 8:45 am]

BILLING CODE 8320-01-P